DEPARTMENT OF ENERGY

Federal Energy Regulatory Commission

[Docket Nos.RP00-398-005 and RP01-34-007]

Overthrust Pipeline Company; Notice of Compliance Filing

November 20, 2003.

Take notice that on November 17, 2003, Overthrust Pipeline Company's (Overthrust) tendered for filing as part of its FERC Gas Tariff, First Revised Volume No. 1, Second Revised Sheet no. 78K to be effective December 1, 2003.

Overthrust states that this filing proposes to amend Overthrust's October 31, 2003, tariff filing that was filed in compliance with the Commission's Order on Rehearing and Compliance Filing issued March 4, in Docket Nos. RP00-398-001, RP00-398-002, RP01-34003 and RP01-34-004. Overthrust states that it was discovered that the pagination for First Revised Sheet No. 78K was incorrect and the correct pagination should be Second Revised Sheet No. 78K.

Overthrust states that a copy of this filing has been served upon its customers and the Public Service Commission of Utah and the Public Service Commission of Wyoming.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support atFERCOnlineSupport@ferc.gov or toll-free at (866) 208-3676, or TTY, contact (202) 502-8659. The Commission strongly encourages electronic filings. See, 18 CFR 385.2001(a)(1)(iii) and the instructions on the Commission's web site under the e-Filing link.

Magalie R. Salas,
Secretary.

[FR Doc. E3-00409 Filed 11-28-03; 8:45 am]

BILLING CODE 6717-01-P